ENVIRONMENTAL PROTECTION AGENCY

[FRL-7433-1]

Agency Information Collection Activities: Submission for OMB Review; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Regional Haze Regulations, ICR number 1813.04, and OMB Control Number 2060-0421, expiration date: December 31, 2002. The ICR describes the nature of the information collection and its expected burden and cost; where appropriate, it includes the actual data collection instrument.

DATES: Comments must be submitted on or before January 29, 2003.

ADDRESSES: Send comments, referencing EPA ICR No. 1813.04 and OMB Control No. 2060-0421, to the following addresses: Susan Auby, U.S. Environmental Protection Agency, Collection Strategies Division (Mail Code 2822T), 1200 Pennsylvania Avenue, NW, Washington, DC 20460-0001; and to Office of Information and Regulatory Affairs, Office of Management and Budget (OMB), Attention: Desk Officer for EPA, 725 17th Street, NW, Washington, DC 20503.

FOR FURTHER INFORMATION CONTACT: For a copy of the ICR contact Susan Auby at EPA by phone at (202) 566-1672, or by e-mail at auby.susan@epa.gov and refer to EPA ICR No. 1813.04. For technical questions about the ICR contact Tim Smith by phone at (919) 541-4718, by E-mail at smith.tim@epa.gov, or by mail at Integrated Policy and Standards Group (C504-02), U.S. Environmental Protection Agency, Research Triangle Park, NC 27711.

SUPPLEMENTARY INFORMATION: Title: Regional Haze Regulations, ICR number 1813.04., and OMB Control Number 2060-0421, expiration date: December 31, 2002. This is a request for extension of a currently approved collection.

Abstract: This ICR is for activities related to the implementation of EPA's 1999 regional haze rule, for the time period between October 1, 2002 and September 30, 2005. This ICR renews the previous ICR, which addressed the three year time period immediately after the rule was promulgated. The regional haze rule, as authorized by sections 169A and 169B of the Clean Air Act, requires States to develop implementation plans to protect visibility in 156 federally-protected Class I area. Tribes may choose to develop implementation plans. For this time period, States will be conducting technical analyses in support of development of reasonable progress goals and strategies for regional haze as required by the rule. EPA is encouraging States to work together in regional planning organizations to development and implement multi-state strategies.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on July 31, 2002. No comments were received.

Burden Statement: The annual public reporting and recordkeeping burden for this collection of information is estimated to average 219 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State air quality agencies; local air quality agencies, regional planning organizations; certain facilities built between 1962 and 1977.

Frequency of Response: annually.

Estimated Total Annual Hour Burden: 44,917.

Estimated Total Annualized Capital, O&M Cost Burden: $0.

Send comments on the Agency's need for this information, the accuracy of the provided burden estimates, and any suggested methods for minimizing respondent burden, including through the use of automated collection techniques to the addresses listed above.

Please refer to EPA ICR No. 1813.04 and OMB Control No. 2060-0421 in any correspondence.

Dated: December 19, 2002.
Oscar Morales,
Director, Collection Strategies Division.

[FR Doc. 02-32901 Filed 12-27-02; 8:45 am]

BILLING CODE 6560-50-P